DEPARTMENT OF THE INTERIOR

National Park Service

[NPS-WASO-NRNHL-DTS#-28444; PPWOCRADI0, PCU00RP14.R50000]

National Register of Historic Places; Notification of Pending Nominations and Related Actions

AGENCY: National Park Service, Interior.

ACTION: Notice.

SUMMARY: The National Park Service is soliciting comments on the significance of properties nominated before July 13, 2019, for listing or related actions in the National Register of Historic Places.

DATES: Comments should be submitted by August 14, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before July 13, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Harrenstein, Dr. Howard Paul, House, 6450 North Calle De Estevan, Tucson, SG100004292

DISTRICT OF COLUMBIA

District of Columbia

American Theater, 104-108 Rhode Island Ave. NW, Washington, SG100004296

Brookland Bowling Alleys, 3726 10th St. NE, Washington, SG100004306

GEORGIA

Hall County

Friendship Baptist Church Cemetery, 3759 Friendship Rd., Buford, SG100004298

Laurens County

First African Baptist Church, 405 Telfair St., Dublin, SG100004299

Polk County

St. James' Episcopal Church, 302 and 308 West Ave., Cedartown, SG100004293

HAWAII

Hawaii County

Fujino, Matsujiro, Property, 45-3390 Mamane St., Honoka'a, SG100004285

Honoka'a Garage, 43-3586 Mamane St., Honoka'a, SG100004286

Honolulu County

Dearborn Chemical Company Warehouse, 941 Waimanu St., Honolulu, SG100004287

Kaiser, Henry J. and Alyce, Estate, 525 Portlock Rd., Honolulu, SG100004289

Ala Wai Villas, 2455 Ala Wai Blvd., Honolulu, SG100004290

Kauai County

Sueoka Market, 5392 Koloa Rd., Koloa, SG100004288

MONTANA

Stillwater County

Stillwater County Courthouse, 400 East 3rd Ave. North, Columbus, SG100004277

OREGON

Marion County

Oregon State Hospital Historic District, Roughly bounded by D St., Park Ave., 24th St. & Bates Dr., Salem, BC100004300

VIRGINIA

Bath County

Warm Springs Bathhouses, NE of Warm Springs off Rt. 220, Warm Springs vicinity, BC100004302

Nelson County

Norwood-Wingina Rural Historic District, Arrowhead Ln., Capel Ln., Findlay Gap Rd., James River Rd., Norwood Rd., Pine Hill Ln., Round Top Ln., Taylors Store Loop, Union Hill Rd., Variety Mills Rd., Wingina, SG100004305

WASHINGTON

King County

Beacon Hill School, 2524 16th Ave. S, Seattle, SG100004297

WEST VIRGINIA

Fayette County

Oak Hill High School, 140 School St., Oak Hill, SG100004283

Roane County

Laurel Hill District School, U.S. Route 33 West and County Route 5/9, Spencer, SG100004284

A request for removal has been made for the following resources:

ARIZONA

Yuma County

Southern Pacific Railroad Depot, Gila St., Yuma, OT76000384

MICHIGAN

Kalamazoo County

Fountain of the Pioneers, (Kalamazoo MRA), Bronson Park, bounded by Academy, Rose, South & Park Sts., Kalamazoo, OT16000417

Additional documentation has been received for the following resources:

VIRGINIA

Richmond Independent City

Monument Avenue Historic District, Bounded by Grace and Birch Sts., Park Ave., and Roseneath Rd., Richmond (Independent City), AD70000883

WEST VIRGINIA

Fayette County

Soldiers and Sailors Memorial Building, 100 N. Court St., Fayetteville, AD16000312

Authority: Section 60.13 of 36 CFR part 60.

Dated: July 15, 2019.
Julie H. Ernstein,
Acting Chief, National Register of Historic Places/National Historic Landmarks Programs.

[FR Doc. 2019-16091 Filed 7-29-19; 8:45 am]

BILLING CODE 4312-52-P